DEPARTMENT OF THE INTERIOR

Fish and Wildlife Service

[FWS-R8-R-2010-N169; 80230-1265-0000-S3]

Sonny Bono Salton Sea National Wildlife Refuge Complex (Sonny Bono Salton Sea National Wildlife Refuge and Coachella Valley National Wildlife Refuge), Imperial and Riverside Counties, CA

Correction

Notice document 2010-22731, on pages 55600-55601, in the issue of Monday, September 13, 2010, was published in error. It should not have appeared in the issue.

[FR Doc. C1-2010-22731, Filed X-XX-08; 8:45 am]

BILLING CODE 1505-01-D